DEPARTMENT OF ENERGY

Federal Energy Regulatory Commission

Combined Notice of Filings #2

Take notice that the Commission received the following electric rate filings:

Docket Numbers: ER12-677-001.

Applicants: ITC Midwest LLC.

Description: Compliance Filing—ITC Midwest, Storm Lake, and IPL Joint Use Agreement to be effective 2/21/2012.

Filed Date: 4/9/12.

Accession Number: 20120409-5070.

Comments Due: 5 p.m. ET 4/30/12.

Docket Numbers: ER12-1417-001.

Applicants: San Diego Gas & Electric Company.

Description: Errata to SDGE Formula Appendix X to be effective 6/1/2012.

Filed Date: 4/9/12.

Accession Number: 20120409-5092.

Comments Due: 5 p.m. ET 4/30/12.

Docket Numbers: ER12-1461-000.

Applicants: Florida Power Corporation.

Description: Rate Schedule No. 200 of Florida Power Corporation to be effective 4/9/2012.

Filed Date: 4/9/12.

Accession Number: 20120409-5066.

Comments Due: 5 p.m. ET 4/30/12.

Take notice that the Commission received the following open access transmission tariff filings:

Docket Numbers: OA07-53-008.

Applicants: Carolina Power & Light Company, Florida Power Corporation.

Description: Annual Penalty Revenues Refund Report of Florida Power Corporation et al.

Filed Date: 4/9/12.

Accession Number: 20120409-5051.

Comments Due: 5 p.m. ET 4/30/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2012.
Nathaniel J. Davis, Sr.,
Deputy Secretary.

[FR Doc. 2012-9022 Filed 4-13-12; 8:45 am]

BILLING CODE 6717-01-P